DEPARTMENT OF COMMERCE

National Oceanic and Atmospheric Administration

RIN 0648-XO37

Magnuson-Stevens Act Provisions; General Provisions for Domestic Fisheries; Application for Exempted Fishing Permits

AGENCY: National Marine Fisheries Service (NMFS), National Oceanic and Atmospheric Administration (NOAA), Commerce.

ACTION: Notice; receipt of exempted fishing permit application.

SUMMARY: The Assistant Regional Administrator for Sustainable Fisheries, Northeast Region, NMFS (Assistant Regional Administrator), has made a preliminary determination that the subject exempted fishing permit (EFP) application contains all the required information and warrants further consideration. The Assistant Regional Administrator has also made a preliminary determination that the activities authorized under the EFP would be consistent with the goals and objectives of the Northeast (NE) Multispecies Fishery Management Plan (FMP). However, further review and consultation may be necessary before a final determination is made to issue the EFP. Therefore, NMFS announces that the Assistant Regional Administrator proposes to recommend that an EFP be issued that would allow one commercial fishing vessel to conduct fishing operations that are otherwise restricted by the regulations governing the fisheries of the Northeastern United States.

Regulations under the Magnuson-Stevens Fishery Conservation and Management Act require publication of this notification to provide interested parties the opportunity to comment on applications for proposed EFPs.

DATES: Comments must be received on or before May 4, 2009.

ADDRESSES: Written comments should be sent to Patricia A. Kurkul, Regional Administrator, NMFS, Northeast Regional Office, 55 Great Republic Drive, Gloucester, MA 01930. Mark the outside of the envelope “Comments on the Massachusetts Haddock Trawl Study.” Comments may also be sent via facsimile (fax) to (978) 281-9135, or submitted via e-mail to the following address: DA9052@noaa.gov.

FOR FURTHER INFORMATION CONTACT: Allison Murphy, Fishery Management Specialist, (978) 281-9122, fax (978) 281-9135.

SUPPLEMENTARY INFORMATION: A complete application for an EFP was submitted on February 27, 2009, by David Chosid and Michael Pol of the Massachusetts Division of Marine Fisheries (DMF). The project was funded by the DMF/University of Massachusetts, Dartmouth, School for Marine Science and Technology, Marine Fisheries Institute grant program. The primary goal of the research is to test the effectiveness of a sweepless (no ground gear) raised footrope, semi-pelagic trawl, referred to as the “5-point trawl” net. This net was designed to minimize the catch of Atlantic cod while maximizing the catch of haddock. The intent of the researchers is that the experimental net, if successful, could potentially be an acceptable alternative trawl design to be used in the groundfish fishery.

The project is a continuation of research previously conducted in 2006 and 2007 by DMF, which has preliminarily shown that this new trawl net design significantly reduces the bycatch of cod, as compared to the standard trawl used. The experimental net was designed to exploit the differences in behavior of haddock and cod in relation to towed gears. Similar to the haddock separator trawl, this experimental net proposes to reduce cod mortality; however, it avoids some of the complexities associated with separator trawls, since, under the experimental net, the cod would not pass through meshes, or encounter grids or escape vents. Although this study would focus on reducing cod-haddock interactions, this net may also reduce the bycatch of flatfish species such as winter flounder, yellowtail flounder, witch flounder, and American plaice.

All fish would be sorted and weighed, and fish of legal size would be retained for sale. All discards would be released as quickly as practicable to reduce incidental mortality. Exemptions from the NE multispecies possession limits at 50 CFR 648.86, the U.S. Canada Management Area harvest control regulations at § 648.85(a)(3)(iv), the U.S./Canada Management Area gear requirements for trawl nets at § 648.85(a)(3)(iii), and the Eastern U.S./Canada Area May 1- July 31 seasonal trawl gear prohibition specified under the Regional Administrator's authority, are necessary because valid testing of the experimental nets would require continued sampling after daily and overall trip limits have been reached for certain species in order to obtain adequate replicates for analysis. The participating vessel would be subject to any U.S./Canada Management Area Closures or possession prohibitions due to the achievement of a cod, haddock, or yellowtail flounder Total Allowable Catch (TAC). Based on catch data from previous experimental tows with this net design, the researchers anticipate that a total of 24.2 mt of fish would be harvested throughout the course of the study. All proceeds from the sale of the fish would be returned to DMF for the purpose of enhancing future research. Following is the total estimated catch and discards by species: Cod, 3.20 mt; haddock, 1.60 mt; pollock, 0.00 mt; witch flounder, 0.10 mt; yellowtail flounder, 0.40 mt; winter flounder, 2.00 mt; American plaice, 0.40 mt; monkfish, 0.90 mt; spiny dogfish, 1.20 mt; skates, 8.80 mt; American lobster, 0.60 mt; and other discards, 5.00 mt.

All at-sea research would be conducted from one fishing vessel, which intends to fish in the Eastern U.S./Canada Haddock Special Access Program (SAP). A total of 7 days would be used for testing the experimental trawl. An anticipated 84 1-hour tows would be conducted during that time. DMF staff would be aboard the vessel at all times during testing.

Based on preliminary review of this project, and in accordance with NOAA Administrative Order 216-6, a Categorical Exclusion from requirements to prepare either an Environmental Impact Statement or an Environmental Assessment under the National Environmental Policy Act appears to be justified. The applicant may request minor modifications and extensions to the EFP throughout the year. EFP modifications and extensions may be granted without further notice if they are deemed essential to facilitate completion of the proposed research and have minimal impacts that do not change the scope or impact of the initially approved EFP request.

Authority: 16 U.S.C. 1801 et seq.

Dated: April 13, 2009.
Kristen C. Koch,
Acting Director, Office of Sustainable Fisheries, National Marine Fisheries Service.

[FR Doc. E9-8906 Filed 4-16-09; 8:45 am]

BILLING CODE 3510-22-S